DEPARTMENT OF ENERGY

Federal Energy Regulatory Commission

[Project No. 13258-000]

Bexar-Medina-Atascosa Counties Water Control and Improvement District No. 1; Notice of Preliminary Permit Application Accepted for Filing and Soliciting Comments, Motions To Intervene, and Competing Applications

December 30, 2008.

On July 15, 2008 and supplemented on October 24, 2008, Bexar-Medina-Atascosa Counties Water Control and Improvement District No. 1 filed an application, pursuant to section 4(f) of the Federal Power Act, proposing to study the feasibility of the BMA Irrigation System Hydroelectric Project. The proposed project would be located on the Medina River and BMA Canal in Castroville and Medina Counties, Texas.

The proposed BMA Irrigation System Hydroelectric Project would consist of:

Lake Medina Dam

(1) An existing 1,550-foot-long, 164-foot-high concrete dam; (2) an existing Medina Lake upper reservoir having a surface area of 5,575 acres and a storage capacity of 25,400-acre-feet and normal water surface elevation of 1,064 feet mean sea level; (3) a proposed 160-foot-long steel penstock (100 feet existing and 60 feet new); (4) a proposed powerhouse containing one generating unit having an installed capacity of 1.5-megawatts; (5) a proposed tailrace; (6) a proposed 4-mile-long, 138 kV transmission line; and (7) appurtenant facilities. The proposed BMA Irrigation System would have an average annual generation of 5.2-gigawatt-hours.

Diversion Lake Dam

(1) A proposed 450-foot-long, 51-foot-high Diversion Lake Dam; (2) a proposed Diversion Lake lower reservoir having a surface area of 177 acres and a storage capacity of 4,500-acre-feet and normal water surface elevation of 926 feet mean sea level; (3) a proposed 100-foot-long steel penstock; (4) a proposed powerhouse containing one generating unit having an installed capacity of .5 megawatts; (5) a proposed tailrace; (6) a proposed 8.4-mile-long, 138 kV transmission line; and (7) appurtenant facilities. The proposed BMA Irrigation System would have an average annual generation of 2.5-gigawatt-hours.

Applicant Contact: Mr. Ed Berger, Bexar-Medina-Atascosa Counties Water Control and Improvement District No. 1, P.O. Box 170, Natalia, TX 78059; phone (830) 665-2132.

FERC Contact: Patricia W. Gillis, 202-502-8735.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at http://www.ferc.gov/docs-filing/elibrary.asp. Enter the docket number (P-13258) in the docket number field to access the document. For assistance, call toll-free 1-866-208-3372.

Kimberly D. Bose,
Secretary.

[FR Doc. E8-31433 Filed 1-5-09; 8:45 am]

BILLING CODE 6717-01-P